DEPARTMENT OF COMMERCE

International Trade Administration

[A-570-028]

Hydrofluorocarbon Blends and Components Thereof From the People's Republic of China: Notice of Correction to the Final Determination of Sales at Less Than Fair Value

AGENCY: Enforcement and Compliance, International Trade Administration, Department of Commerce.

FOR FURTHER INFORMATION CONTACT: Dennis McClure, Enforcement and Compliance, International Trade Administration, U.S. Department of Commerce, 14th Street and Constitution Avenue NW., Washington, DC 20230; telephone: (202) 482-5973.

SUPPLEMENTARY INFORMATION: On June 29, 2016, the Department of Commerce (the Department) published in the Federal Register the final determination of sales at less than fair value (LTFV) in the antidumping duty investigation of hydrofluorocarbon blends and components thereof from the People's Republic of China.¹ In the Final Determination, the Department inadvertently assigned a weighted-average dumping margin of 101.82 percent to the following exporter/producer combinations: (1) Zhejiang Sanmei Chemical Industry Co., Ltd. (Zhejiang Sanmei Chemical Industry Co., Ltd.) and Zhejiang Sanmei Chemical Industry Co., Ltd. (Zhejiang Sanmei Chemical Industry Co., Ltd.); and (2) Zhejiang Sanmei Chemical Industry Co., Ltd. (Zhejiang Sanmei Chemical Industry Co., Ltd.) and Jiangsu Sanmei Chemicals Co., Ltd.² However, the weighted-average dumping margin should have been assigned, instead, to the following exporter/producer combinations, among others: (1) Zhejiang Sanmei Chemical Ind. Co. Ltd. (Zhejiang Sanmei Chemical Industry Co., Ltd.) and Zhejiang Sanmei Chemical Ind. Co., Ltd. (Zhejiang Sanmei Chemical Industry Co., Ltd.); and (2) Zhejiang Sanmei Chemical Ind. Co., Ltd. (Zhejiang Sanmei Chemical Industry Co., Ltd.) and Jiangsu Sanmei Chemicals Co., Ltd.³ As a result, we now correct the final determination of sales at LTFV as noted above.

¹ See Hydrofluorocarbon Blends and Components Thereof From the People's Republic of China: Final Determination of Sales at Less Than Fair Value and Final Affirmative Determination of Critical Circumstances, 81 FR 42314 (June 29, 2016) (Final Determination), and accompanying Issues and Decision Memorandum.

² Id., 81 FR at 42316.

³ Id., at Comment 12.

This correction to the final determination of sales at LTFV is issued and published in accordance with sections 735(a)(1) and 777(i)(1) of the Tariff Act of 1930, as amended.

Dated: July 20, 2016.
Paul Piquado,
Assistant Secretary for Enforcement and Compliance.

[FR Doc. 2016-17816 Filed 7-27-16; 8:45 am]

BILLING CODE 3510-DS-P